FEDERAL RESERVE SYSTEM

Change in Bank Control Notices, Acquisition of Shares of Bank or Bank Holding Companies; Correction

This notice corrects a notice (FR Doc. E7-2770) published on page 7656 of the issue for Friday, February 16, 2007.

Under the Federal Reserve Bank of Chicago heading, the entry for Randall R. Schwartz, Orland Park, Illinois; Susan M. Schwartz, Orland Park, Illinois; Richard H. Schwartz, Lemont, Illinois; Esther V. Schwartz, Lemont, Illinois; Clarence J. Ludwig, Sarasota, Florida; Mary Lou Ludwig, Sarasota, Florida; William D. Ludwig, Lincoln, Nebraska, Linda S. Macaskill, Sarasota, Florida; and John D. Macaskill, Sarasota, Florida, is revised to read as follows:

A. Federal Reserve Bank of Chicago (Burl Thornton, Assistant Vice President) 230 South LaSalle Street, Chicago, Illinois 60690-1414:

1. Randall R. Schwartz, the Susan M. Schwartz Trust, Orland Park, Illinois; Susan M. Schwartz as trustee of the Susan M. Schwartz Trust; Richard H. Schwartz and Esther V. Schwartz, both of Lemont, Illinois; the Clarence J. Ludwig Trust, Sarasota, Florida; Clarence J. Ludwig as trustee of the Clarence J. Ludwig Trust, the Mary Lou Ludwig Trust, Sarasota, Florida; Mary Lou Ludwig as trustee of the Mary Lou Ludwig Trust, the William D. Ludwig Trust, Lincoln, Nebraska; William D. Ludwig as trustee of the William D. Ludwig Trust, Linda S. Macaskill, the John D. Macaskill Revocable Trust, Sarasota, Florida; and John D. Macaskill as trustee of the John D. Macaskill Revocable Trust; to retain voting shares of First Personal Financial Corp., Orland Park, Illinois, and thereby indirectly retain voting shares of First Personal Bank, Orland Park, Illinois.

Comments on this application must be received by May 7, 2007.

Board of Governors of the Federal Reserve System, April 23, 2007.
Robert deV. Frierson,
Deputy Secretary of the Board.

[FR Doc. E7-8044 Filed 4-26-07; 8:45 am]

BILLING CODE 6210-01-S